DEPARTMENT OF THE INTERIOR

Bureau of Land Management

[LLIDT03000-L14300000.EU0000; IDI-36320]

Notice of Realty Action—Proposed Disposal of Public Land; and Notice of Intent To Prepare a Management Framework Plan Amendment and Associated Environmental Impact Statement for the Shoshone Field Office, Idaho

AGENCY: Bureau of Land Management, Interior.

ACTION: Notice of Realty Action and Notice of Intent.

SUMMARY: A parcel of public land totaling 2480 acres in Blaine County, Idaho, is being considered for disposal out of Federal ownership, either through sale at no less than the appraised fair market value or through a land exchange proposal, to include the State of Idaho, under the provisions of the Federal Land Policy and Management Act of 1976 (FLPMA). Disposal of this parcel out of Federal ownership would require amendment of the 1980 Bennett Hills/Timmerman Hills Management Framework Plan (MFP) prior to the disposal action.

DATES: The scoping period will commence on March 25, 2009. In order to ensure consideration in the environmental analysis of the proposed disposal, comments must be received by May 11, 2009.

ADDRESSES: Since the FAA is the lead agency for the EIS process, comments regarding the notice of realty action and proposed plan amendment should be addressed to Ms. Cayla Morgan, Federal Aviation Administration, Seattle Airports District Office, 1601 Lind Avenue, SW., Suite 250, Renton, Washington 98057-3356 with a copy sent to Ms. Lori A. Armstrong, Field Manager, Bureau of Land Management, 400 West F Street, Shoshone, Idaho 83352.

FOR FUTHER INFORMATION CONTACT: For information regarding the potential disposal action please contact Ms. Tara Hagen, Realty Specialist, Bureau of Land Management, 400 West F Street, Shoshone, Idaho 83352. For information regarding the environmental analysis and replacement airport project please contact Ms. Cayla Morgan, Federal Aviation Administration, at the above address or telephone (425) 227-2653.

SUPPLEMENTARY INFORMATION: In accordance with the FLPMA (43 U.S.C. 1701), as amended; the National Environmental Policy Act of 1969 (NEPA) (42 U.S.C. 4321), as amended; and the Council on Environmental Quality (CEQ) regulations (40 CFR parts 1500-1508); the Department of the Interior, Bureau of Land Management (BLM), in cooperation with the Federal Aviation Administration (FAA) intends to prepare a MFP amendment and associated environmental impact statement (EIS), to consider the location and construction of a replacement airport for the Friedman Memorial Airport (SUN) and potential disposal of public land in Blaine County, Idaho. The FAA has been identified as the lead agency with the BLM as a cooperating agency; one of the alternative sites occurs wholly on public land administered by the BLM. The EIS will analyze the potential environmental impacts of the construction and operation of an airport facility, associated utility and access rights-of-way, protection of easement interests, as well as the consideration of the potential disposal of a parcel of public land totaling 2480 acres either by sale or land exchange. This notice initiates the public scoping process regarding the notice of realty action and the proposed MFP amendment.

The sponsor of the project, Friedman Memorial Airport Authority (Airport Authority), has requested funding and approval from the FAA to construct and operate a replacement airport for the Friedman Memorial Airport in Blaine County, Idaho. The FAA published a Notice of Intent to Prepare an EIS for a Replacement Airport near Hailey, Idaho, in the Federal Register on November 1, 2007 (Vol. 72, No. 211, page 61945) in response to the Airport Authority's application. As a result of initial studies by the FAA the Airport Authority has now submitted a proposal to the BLM to acquire approximately 2480 acres of public land by either sale or inclusion of the public land within a land exchange, which would include the State of Idaho as a party, if the alternative site located wholly of public land in conjunction with the aforementioned project is determined by the EIS to be the preferred location for the replacement airport.

The following described public land in Blaine County, Idaho, is being considered for disposal out of Federal ownership in conjunction with the FAA's replacement airport project under the authority of the Federal Land Policy and Management Act of 1976 (90 Stat. 2750, 43 U.S.C. 1713):

Boise Meridian

T. 2 S., R. 18 E.,

Sec. 25: Entire Section;

Sec. 26: Entire Section;

Sec. 27: Entire Section;

Sec. 34: N2N2; and

Sec. 35: N2NW, E2.

The area described contains 2480 acres in Blaine County.

Pursuant to the MFP (as amended), sites associated with disposal of public land for airport facilities not currently identified for disposal out of Federal ownership in the MFP will be considered through the MFP amendment process.

Subject to limitations prescribed by law and regulation, prior to patent issuance, a Holder of any right-of-way within the public land may be given the opportunity to amend the right-of-way for conversion to a new term, including perpetuity, if applicable, or to an easement. Conveyance of any mineral interests pursuant to either Section 206 or Section 209 of the FLPMA will be analyzed during processing of the proposed disposal action.

On March 25, 2009, the above-described land will be segregated from appropriation under the public land laws, including the mining laws, except the sale and exchange provisions of the FLPMA. Until completion of the disposal action, the BLM is no longer accepting land use applications affecting the identified public land, except applications for the amendment of previously filed right-of-way applications or existing authorizations to increase the term of the grants in accordance with 43 CFR 2807.15 and 2886.15. The segregative effect will terminate upon issuance of a patent, publication in the Federal Register of a termination of the segregation, or on March 25, 2011 unless extended by the BLM State Director in accordance with 43 CFR 2711.1-2(d) prior to the termination date.

Public Comments: During the initial stages of project development the FAA and the Airport Authority conducted several public meetings. The results of those meetings will be incorporated into the BLM MFP amendment process and additional public involvement will occur through the submission of written comments. While additional public meetings are not identified at this point, if additional meetings are scheduled, a notice in the local newspapers will announce the date and time at least 15 days prior to any public meeting. For a period extending until May 11, 2009, interested parties and the general public may submit in writing any comments concerning the BLM's MFP amendment or the public land being considered for disposal including notification of any encumbrances or other claims relating to the identified land. Please submit comments to Ms. Morgan, with a copy sent to Ms. Armstrong at the addresses listed above. In order to ensure consideration in the environmental analysis of the proposed project, comments must be in writing and postmarked or delivered no later than May 11, 2009. Comments transmitted via e-mail will not be accepted. Comments, including names and street addresses of respondents, will be available for public review at the BLM Shoshone Field Office during regular business hours, except holidays. Individual respondents may request confidentiality. Before including your address, phone number, e-mail address, or other personal identifying information in your comment, you should be aware that your entire comment, including your personal identifying information, may be made publicly available at any time. While you can ask us in your comment to withhold your personal identifying information from public review, we cannot guarantee that we will be able to do so. If you wish to have your name or address withheld from public disclosure under the Freedom of Information Act, you must state this prominently at the beginning of your comments. Any determination by the FAA or the BLM to release or withhold the names and/or addresses of those who comment will be made on a case-by-case basis. Such requests will be honored to the extent allowed by law. The FAA and the BLM will make available for public review, in their entirety, all comments submitted by businesses or organizations, including comments by individuals in their capacity as an official or representative of a business or organization.

Authority: 43 CFR 2711.1-2; 43 CFR 1610.5-2)

Further information about the EIS will be posted when available at the following Web site: http://www.airportsites.net/SUN-EIS.

Lori A. Armstrong,
Shoshone Field Manager.

[FR Doc. E9-6583 Filed 3-24-09; 8:45 am]

BILLING CODE